DEPARTMENT OF DEFENSE

Department of the Navy

[Docket ID: USN-2025-HQ-0169]

Proposed Collection; Comment Request

AGENCY: Department of the Navy, Department of Defense (DoD).

ACTION: 60-Day information collection notice.

SUMMARY: In compliance with the Paperwork Reduction Act of 1995, the United States Marine Corps Manpower and Reserve Affairs announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by November 10, 2025.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to AR Division, Headquarters Marine Corps, 3000 Marine Corps., Pentagon Rm. 2B253, Mark Kazzi, mark.kazzi@usmc.mil, or call (571) 256-8883.

SUPPLEMENTARY INFORMATION:

Title; Associated Form; and OMB Number: Response to Marine Corps NAF Debt Collection Notice; NAVMC 11787; OMB Control Number 0712-0008.

Needs and Uses: The information collection requirement is necessary to notify and account for vendors and patrons indebted to Marine Corps Non-Appropriated Fund Instrumentality businesses and services for the purpose of repayment management or debt collection dependent on the response option elected by the respondent. Respondents are informed of their alleged debt and use the NAVMC Form 11787, “Response to Marine Corps NAF Debt Collection Notice,” to elect to repay the debt in full, agree to a repayment plan, dispute the debt, or indicate that bankruptcy has been filed.

Affected Public: Individuals or households.

Annual Burden Hours: 329.

Number of Respondents: 1,975.

Responses per Respondent: 1.

Annual Responses: 1,975.

Average Burden per Response: 10 minutes.

Frequency: On occasion.

Dated: September 5, 2025.
Stephanie J. Bost,
Alternate OSD Federal Register Liaison Officer, Department of Defense.

[FR Doc. 2025-17355 Filed 9-9-25; 8:45 am]

BILLING CODE 6001-FR-P